FEDERAL TRADE COMMISSION

Agency Information Collection Activities: Proposed Collection; Comment Request; Generic Clearance for the Collection of Qualitative Feedback on Agency Service Delivery

AGENCY: Division of Consumer and Business Education, Federal Trade Commission (“FTC” or “Commission”).

ACTION: Notice.

SUMMARY: The information collection requirements described below will be submitted to the Office of Management and Budget (“OMB”) for review, as required by the Paperwork Reduction Act (“PRA”). The FTC is seeking public comments on its proposal to renew its PRA clearance to participate in the OMB program “Generic Clearance for the Collection of Qualitative Feedback on Agency Service Delivery.” This program was created to facilitate federal agencies' efforts to streamline the process to seek public feedback on service delivery. Current FTC clearance under this program expires April 30, 2017.

DATES: Comments must be submitted by March 31, 2017.

ADDRESSES: Interested parties may file a comment online or on paper, by following the instructions in the Request for Comment part of the SUPPLEMENTARY INFORMATION section below. Write “FTC Generic Clearance ICR, Project No. P035201” on your comment, and file your comment online at https://ftcpublic.commentworks.com/ftc/genericclearance by following the instructions on the web-based form. If you prefer to file your comment on paper, mail your comment to the following address: Federal Trade Commission, Office of the Secretary, 600 Pennsylvania Avenue NW., Suite CC-5610 (Annex J), Washington, DC 20580, or deliver your comment to the following address: Federal Trade Commission, Office of the Secretary, Constitution Center, 400 7th Street SW., 5th Floor Suite 5610 (Annex J), Washington, DC 20024.

FOR FURTHER INFORMATION CONTACT: To request additional information, please contact Bridget Small at 202-326-3266.

SUPPLEMENTARY INFORMATION:

Executive Order 12862 (1993) (“Setting Customer Service Standards”) directs all Federal executive departments and agencies and requests independent Federal agencies to provide service to “customers” that matches or exceeds the best service available in the private sector. See also Executive Order 13571 (2011) (“Streamlining Service Delivery and Improving Customer Service”). For purposes of these orders, “customer” means an individual who or entity that is directly served by a department or agency.

To the above ends, and to work continuously to ensure that the FTC's programs are effective and meet our customers' needs, we seek renewed OMB approval of a generic clearance to collect qualitative feedback on our service delivery (i.e., the products and services that the FTC creates to help consumers and businesses understand their rights and responsibilities, including Web sites, blogs, videos, print publications, and other content). “Qualitative feedback” denotes information that provides useful insights on public perceptions and opinions, but are not statistical surveys that yield quantitative results that can be generalized to the population of study. The solicitation of feedback on service delivery will target areas such as timeliness, appropriateness, accuracy of information, courtesy, efficiency of service delivery, and resolution of issues with service delivery.

The FTC will collect, analyze, and interpret information it gathers through this generic clearance program to identify strengths and weaknesses of current services and make improvements in service delivery based on feedback.

The types of collections that the proposed generic clearance covers include, but are not limited to:

• Customer comment cards/complaint forms;

• Small discussion groups;

• Focus Groups of customers, potential customers, delivery partners, or other stakeholders;

• Cognitive laboratory studies, such as those used to refine questions or assess usability of a Web site;

• Qualitative customer satisfaction surveys (e.g., post-transaction surveys; opt-out web surveys);

• In-person observation testing (e.g., Web site or software usability tests).

The FTC's use of this program contemplates a range of information collections that focus on the awareness, understanding, attitudes, preferences, or experiences of customers or other stakeholders (e.g., visitors to FTC Web sites) relating to existing or future agency services or communication materials. This feedback will provide insights into customer or stakeholder perceptions, experiences and expectations, provide an early warning of issues with agency service, or focus attention on areas where communication, training or changes in operations might improve delivery of services or communication materials. These collections will allow for ongoing, collaborative and actionable communications between the FTC and its customers and stakeholders. It will also allow feedback to contribute directly to the improvement of program management.

Through these various types of information collections, the FTC's Division of Consumer and Business Education (“DCBE”) has, for example, created and tested www.consumer.gov, an easy-to-use Web site to better reach underserved populations with simple and direct consumer information, written for people who have trouble reading. “Stakeholders” or “customers” included legal services attorneys, English for Speakers of Other Languages teachers, and community leaders. In another instance, DCBE conducted usability tests of www.ftc.gov to assess the organization of that site's content by asking respondents to complete an online card sort. Respondents included, among others, a mix of professions and professional interests, such as economists, attorneys, and consumer advocates. Other past examples include requesting feedback on the design of the FTC's Bulk Order Web site (www.bulkorder.ftc.gov), the FTC's Business Center Web site (www.business.ftc.gov), and OnGuardOnline.gov (www.onguardonline.gov), the federal government's Web site to help people be safe, secure, and responsible online. The DCBE has also conducted in-depth interviews of respondents (e.g., active institutional decision-makers in assisted living facilities, senior residence communities, local community centers, public libraries, among others) to inform the design of a consumer education program to reach older consumers with messages about fraud.

Consistent with OMB requirements, the FTC will only submit a collection for approval under this generic clearance if it meets the following conditions:

• The collections are voluntary;

• The collections are low-burden for respondents (based on considerations of total burden hours, total number of respondents, or burden-hours per respondent) and are low-cost for both the respondents and the Federal Government;

• The collections are non-controversial and do not raise issues of concern to other Federal agencies;

• Any collection is targeted to the solicitation of opinions from respondents who have experience with the program or may have experience with the program in the near future;

• Personally identifiable information (PII) is collected only to the extent necessary ¹ and is not retained;

¹ For example, collections that collect PII in order to provide remuneration for participants of focus groups and cognitive laboratory studies will be submitted under this request. All privacy act requirements will be met.

• Information gathered will be used only internally for general service improvement and program management purposes and is not intended for release outside of the agency.²

² Feedback collected under this generic clearance provides useful information, but it does not yield data that can be generalized to the overall population. Findings will be used for general service improvement, but are not for publication or other public release. Although the FTC does not intend to publish its findings, it may receive requests to release the information (e.g., congressional inquiry, Freedom of Information Act requests). The FTC will disseminate the findings when appropriate, strictly following the agency's “Guidelines for Ensuring the Quality of Information Disseminated to the Public,” and will include specific discussion of the limitation of the qualitative results discussed above.

• Information gathered will not be used for the purpose of substantially informing influential policy decisions; ³ and

³ As defined in OMB and FTC Information Quality Guidelines, “influential” means that “an agency can reasonably determine that dissemination of the information will have or does have a clear and substantial impact on important public policies or important private sector decisions.”

• Information gathered will yield qualitative information; the collections will not be designed or expected to yield statistically reliable results or used as though the results are generalizable to the population of study.

Under this generic clearance program, agency submissions of information collection requests to OMB obtain automatic approval, unless OMB identifies issues within 5 business days of receipt.

Generic clearance for qualitative information will not be used for quantitative information collections that are designed to yield reliably actionable results, such as monitoring trends over time or documenting program performance. Such data uses require more rigorous designs that address: The target population to which generalizations will be made, the sampling frame, the sample design (including stratification and clustering), the precision requirements or power calculations that justify the proposed sample size, the expected response rate, methods for assessing potential non-response bias, the protocols for data collection, and any testing procedures that were or will be undertaken prior fielding the study.

Below is a description of the affected public and the FTC's projected average annual estimates for the next three years:

Affected Public: Individuals and Households, Businesses and Organizations, State, Local or Tribal Government.

Average Expected Annual Number of Activities: 3.

Respondents: 2,200.⁴

⁴ Projected activities: (1) An average of four customer satisfaction surveys per year, 500 respondents each (surveys to get feedback about major campaigns, publications, Web sites, branding and other consumer and business education products to test their appeal and effectiveness), 15 minutes per response; (2) Eight focus groups per year, 10 respondents each (to test education products and Web sites), 2 hours per response; and (3) Ten usability sessions per year, 12 respondents per Web site (to test the usability of FTC Web sites by inviting people to complete common tasks on those sites), 1 hour per response.

Frequency of Response: Once per request.

Annual Responses: 2,200.

Average Minutes per Response: 21 (rounded to nearest whole minute).

Burden Hours: 780.

An agency may not conduct or sponsor, and a person is not required to respond to, a collection of information unless it displays a currently valid OMB control number. The OMB control number assigned to the FTC to conduct past activities under this program is 3084-0159.

Request for Comment

Under the PRA, 44 U.S.C. 3501-3521, federal agencies must obtain approval from OMB for each collection of information they conduct or sponsor. “Collection of information” means agency requests or requirements that members of the public submit reports, keep records, or provide information to a third party. 44 U.S.C. 3502(3); 5 CFR 1320.3(c). As required by section 3506(c)(2)(A) of the PRA, the FTC is providing this opportunity for public comment before requesting that OMB extend the existing paperwork clearance for the regulations noted herein.

Pursuant to Section 3506(c)(2)(A) of the PRA, the FTC invites comments on: (1) Whether the proposed information collection is necessary, including whether the information will be practically useful; (2) the accuracy of our burden estimates, including whether the methodology and assumptions used are valid; (3) ways to enhance the quality, utility, and clarity of the information to be collected; and (4) ways to minimize the burden of the collection of information. All comments should be filed as prescribed in the ADDRESSES section above, and must be received on or before March 31, 2017.

You can file a comment online or on paper. For the Commission to consider your comment, we must receive it on or before March 31, 2017. Write “FTC Generic Clearance ICR, Project No. P035201” on your comment. Your comment—including your name and your state—will be placed on the public record of this proceeding, including, to the extent practicable, on the public Commission Web site, at http://www.ftc.gov/os/publiccomments.shtm. As a matter of discretion, the Commission tries to remove individuals' home contact information from comments before placing them on the Commission Web site.

Because your comment will be made public, you are solely responsible for making sure that your comment doesn't include any sensitive personal information, like anyone's Social Security number, date of birth, driver's license number or other state identification number or foreign country equivalent, passport number, financial account number, or credit or debit card number. You are also solely responsible for making sure that your comment doesn't include any sensitive health information, like medical records or other individually identifiable health information. In addition, don't include any “[t]rade secret or any commercial or financial information which is obtained from any person and which is privileged or confidential . . ., ” as provided in Section 6(f) of the FTC Act, 15 U.S.C. 46(f), and FTC Rule 4.10(a)(2), 16 CFR 4.10(a)(2). If you want the Commission to give your comment confidential treatment, you must file it in paper form, with a request for confidential treatment, and you have to follow the procedure explained in FTC Rule 4.9(c), 16 CFR 4.9(c).⁵ Your comment will be kept confidential only if the FTC General Counsel grants your request in accordance with the law and the public interest.

⁵ In particular, the written request for confidential treatment that accompanies the comment must include the factual and legal basis for the request, and must identify the specific portions of the comment to be withheld from the public record. See FTC Rule 4.9(c), 16 CFR 4.9(c).

Postal mail addressed to the Commission is subject to delay due to heightened security screening. As a result, we encourage you to submit your comments online, or to send them to the Commission by courier or overnight service. To make sure that the Commission considers your online comment, you must file it at https://ftcpublic.commentworks.com/ftc/genericclearance by following the instructions on the web-based form. If this Notice appears at http://www.regulations.gov/#!home, you also may file a comment through that Web site.

If you file your comment on paper, write “FTC Generic Clearance ICR, Project No. P035201” on your comment and on the envelope, and mail or deliver it to the following address: Federal Trade Commission, Office of the Secretary, 600 Pennsylvania Avenue NW., Suite CC-5610 (Annex J), Washington, DC 20580, or deliver your comment to the following address: Federal Trade Commission, Office of the Secretary, Constitution Center, 400 7th Street SW., 5th Floor, Suite 5610 (Annex J), Washington, DC 20024. If possible, submit your paper comment to the Commission by courier or overnight service.

The FTC Act and other laws that the Commission administers permit the collection of public comments to consider and use in this proceeding as appropriate. The Commission will consider all timely and responsive public comments that it receives on or before March 31, 2017. For information on the Commission's privacy policy, including routine uses permitted by the Privacy Act, see http://www.ftc.gov/ftc/privacy.htm.

David C. Shonka,
Acting General Counsel.

[FR Doc. 2017-01901 Filed 1-27-17; 8:45 am]

BILLING CODE 6750-01-P